DEPARTMENT OF ENERGY

Federal Energy Regulatory Commission

[Project No. 4334-017]

EONY Generation Limited; Notice Soliciting Scoping Comments

Take notice that the following hydroelectric application has been filed with the Commission and is available for public inspection.

a. Type of Application: New Major License.

b. Project No.: 4334-017.

c. Date Filed: January 28, 2021.

d. Applicant: EONY Generation Limited.

e. Name of Project: Philadelphia Hydroelectric Project.

f. Location: The project is located on the Indian River and Black Creek, in the Village of Philadelphia in Jefferson County, New York. The project does not occupy any federal land.

g. Filed Pursuant to: Federal Power Act 16 U.S.C. 791(a)-825(r).

h. Applicant Contacts: Franz Kropp, Director, Generation, EONY, 7659 Lyonsdale Road, Lyons Falls, NY 13368; (613) 225-0418, ext. 7498. Murray Hall, Manager, Generation, EONY, 7659 Lyonsdale Road, Lyons Falls, NY 13368; (613) 382-7312.

i. FERC Contact: Emily Carter at (202) 502-6512, or Emily.Carter@ferc.gov.

j. Deadline for filing scoping comments: May 18, 2022.

The Commission strongly encourages electronic filing. Please file scoping comments using the Commission's eFiling system at https://www.ferc.gov/docs-filing/efiling.asp. Commenters can submit brief comments up to 6,000 characters, without prior registration, using the eComment system at https://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy via U.S. Postal Service to: Secretary, Federal Energy Regulatory Commission, 888 First Street NE, Washington, DC 20426. Submissions sent via any other carrier must be addressed to: Kimberly D. Bose, Secretary, Federal Energy Regulatory Commission, 12225 Wilkins Avenue, Rockville, Maryland 20852. All filings must clearly identify the project name and docket number on the first page: Philadelphia Hydroelectric Project, P-4334-017.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The Philadelphia Project consists of the following existing facilities: (1) A 65-acre reservoir at a normal maximum water surface elevation of 475.4 feet; ¹ (2) two concrete dams joined by an island and designated as the east diversion dam, which is 60 feet long and 2 to 3 feet high with a crest elevation of 474.4 feet, and topped with 1.2-foot-high flashboards,² and the west diversion dam, which has two sections totaling approximately 30 feet long and 10.4 feet high with a crest elevation of 475.4 feet; (3) a non-overflow section that includes a reinforced concrete intake structure; (4) a 377-foot-long, 9.5-foot-diameter concrete penstock; (5) a 54.5-foot-long by 30-foot-wide reinforced concrete powerhouse; (6) one 3.645-megawatt horizontal Kaplan-type turbine-generator unit; (7) trash racks with 2.5-inch clear spacing; (8) a 4,160-volt, approximately 50-foot-long buried transmission line; (9) a switchyard; and (10) appurtenant facilities.

¹ All elevations are in National Geodetic Vertical Datum of 1929 (NGVD29).

² The flashboards are designed to fail when overtopped by 2 feet of water.

EONY operates the project in run-of-river mode. The generating unit can be operated in either manual or automatic control mode. The project is normally operated remotely (unmanned) in automatic mode. In automatic control mode, the unit is started, synchronized, loaded, unloaded and stopped automatically to maintain the headwater level. The headwater and tailwater levels are recorded using water level pressure transducers.

The maximum hydraulic capacity of the project is 845 cubic feet per second (cfs). Based on the U.S. Geological Survey StreamStats program's annual flow duration data, this flow is equaled or exceeded approximately 9% of the time on an annual basis. The minimum hydraulic capacity is approximately 120 cfs. A continuous minimum flow of 20 cfs or inflow to the project, whichever is less, is passed into the project's bypassed reach. This flow consists of water provided through the flashboard openings on the east dam. The Philadelphia Project generated about 10,092,492 kilowatt-hours for the period from 2016 to 2020.

m. In addition to publishing the full text of this notice in the Federal Register, the Commission provides all interested persons an opportunity to view and/or print the contents of this notice, as well as other documents in the proceeding (e.g., scoping document) via the internet through the Commission's Home Page (https://www.ferc.gov) using the “eLibrary” link. Enter the docket number, excluding the last three digits, in the docket number field to access the document (P-4334). For assistance, contact FERC at FERCOnlineSupport@ferc.gov or call toll-free, (866) 208-3676 or TYY, (202) 502-8659.

n. You may also register online at https://www.ferc.gov/docs-filing/esubscription.asp to be notified via email of new filings and issuances related to this or other pending projects. For assistance, contact FERC Online Support.

o. Scoping Process.

Commission staff will prepare either an environmental assessment (EA) or an Environmental Impact Statement (EIS) that describes and evaluates the probable effects, if any, of the licensee's proposed action and alternatives. The EA or EIS will consider environmental impacts and reasonable alternatives to the proposed action. The Commission's scoping process will help determine the required level of analysis and satisfy the National Environmental Policy Act (NEPA) scoping requirements, irrespective of whether the Commission prepares an EA or an EIS. At this time, we do not anticipate holding on-site scoping meetings. Instead, we are soliciting written comments and suggestions on the preliminary list of issues and alternatives to be addressed in the NEPA document, as described in scoping document 1 (SD1), issued April 18, 2022.

Copies of SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: April 18, 2022.
Debbie-Anne A. Reese,
Deputy Secretary.

[FR Doc. 2022-08595 Filed 4-21-22; 8:45 am]

BILLING CODE 6717-01-P